DEPARTMENT OF THE TREASURY

Submission for OMB Review; Comment Request

August 17, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before September 23, 2009 to be assured of consideration.

Financial Management Service (FMS)

OMB Number: 1510-0056.

Type of Review: Extension.

Title: ACH Vendor/Miscellaneous Payment Enrollment Form.

Description: Payment data will be collected from vendors doing business with the Federal Government. FMS/Treasury will use the information to electronically transmit payments to vendors' financial institutions.

Respondents: Businesses or other for-profits.

Estimated Total Burden Hours: 17,500 hours.

Clearance Officer: Wesley Powe, (202) 874-7662, Financial Management Service, Room 135, 3700 East West Highway, Hyattsville, MD 20782.

OMB Reviewer: OIRA Desk Officer, Office of Management and Budget, Room 10235, New Executive Office Building, Washington, DC 20503, oira_submission@omb.eop.gov.

Robert Dahl,
Treasury PRA Clearance Officer.

[FR Doc. E9-20287 Filed 8-21-09; 8:45 am]

BILLING CODE 4830-01-P